DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Healthy Start Participant Survey (NEW)

The Health Resources and Services Administration's Maternal and Child Health Bureau (MCHB) initiated the Healthy Start program in 1991 in response to concerns about high infant mortality rates. This project is a part of an evaluation that includes a survey of Healthy Start Program participants and is designed to collect information that will be useful in assessing the implementation of Healthy Start and the program impact from a client perspective. Specifically, the goals of the survey are to: Describe the participant population, assess the services they received during the prenatal and early postpartum periods, describe their experiences and satisfaction with the health system and services, and examine their health behaviors.

The survey will be administered to participants at eight grantee sites. The survey will utilize computer assisted telephone interviewing (CATI) with in-person field follow up if the telephone attempts are unsuccessful. Data gathered from the survey will be used to provide HRSA with information necessary to assess the grantees' achievement of MCHB's goal to improve perinatal outcomes among racial and ethnic minorities.

The estimated burden on respondents is as follows:

Form | Number of respondents | Responses per respondent | Total responses | Hours per response | Total burden hours
Participant survey | 633 | 1 | 633 | .5 | 316.5

Written comments and recommendations concerning the proposed information collection should be sent within 30 days of this notice to: John Kraemer, Human Resources and Housing Branch, Office of Management and Budget, New Executive Office Building, Room 10235, Washington, DC 20503.

Dated: March 30, 2006.
Tina M. Cheatham,
Director, Division of Policy Review and Coordination.

[FR Doc. E6-4901 Filed 4-4-06; 8:45 am]

BILLING CODE 4165-15-P